DEPARTMENT OF COMMERCE

International Trade Administration

[A 570-827]

Notice of Final Results of Antidumping Duty Changed Circumstances Review, and Determination to Revoke Order in Part: Certain Cased Pencils from the People's Republic of China

AGENCY: Import Administration, International Trade Administration, Department of Commerce.

ACTION: Notice of final results of antidumping duty changed circumstances review and determination to revoke order in part.

SUMMARY: On September 22, 2003, the Department of Commerce (the Department) published a notice of initiation and preliminary results of an antidumping duty (AD) changed circumstances review with the intent to revoke, in part, the antidumping duty order on certain cased pencils (pencils) from the People's Republic of China (PRC). See Notice of Initiation and Preliminary Results of Antidumping Duty Changed Circumstances Review and Intent to Revoke Order in Part: Certain Cased Pencils from the People's Republic of China, 68 FR 55029 (September 22, 2003) (Initiation and Preliminary Results). We are now revoking this order, in part, with respect to pencils meeting the specifications described below, based on the fact that domestic parties have expressed no interest in the continuation of the order with respect to these particular pencils. See “Final Results of Review; Partial Revocation of Antidumping Duty Order” below. The Department will instruct the U.S. Customs and Border Protection (CBP) to liquidate, without regard to antidumping duties, all unliquidated entries of pencils meeting the specifications described below. Further, the Department will instruct CBP to refund with interest any estimated antidumping duties collected with respect to unliquidated entries of pencils meeting the specifications described below entered, or withdrawn from warehouse, for consumption on or after December 1, 2001. In addition, the Department will order the suspension of liquidation ended for the merchandise covered by this partial revocation, effective on the date of publication of this notice.

EFFECTIVE DATE: November 4, 2003.

FOR FURTHER INFORMATION CONTACT: Melissa Blackledge or Howard Smith, AD/CVD Enforcement, Group II, Office 4, Import Administration, International Trade Administration, U.S. Department of Commerce, 14th Street and Constitution Avenue, NW, Washington, DC 20230; telephone (202) 482-3518 and 482-5193, respectively.

SUPPLEMENTARY INFORMATION:

Background

On July 30, 2003, Accoutrements, a U.S. importer, filed a request with the Department to revoke the AD order on pencils from the PRC with respect to a large novelty pencil. See Accoutrements' letter to the Secretary, dated July 25, 2003 (Accoutrements Request Letter). Specifically, Accoutrements requested that the Department revoke the AD order with respect to imports meeting the following description: novelty jumbo pencil that is octagonal in shape, approximately fourteen inches long, one-and-one quarter inches in diameter, and three-and-three quarter inches in circumference, composed of turned wood imprinted with the word, ACCOUTREMENTS, and the number 2, on one side, encasing one-and-one half inches of sharpened lead on one end and a rubber eraser on the other end. See Accoutrements Request Letter at 1.

On August 11, 2003, the petitioner submitted a letter to the Department stating that it “would not support inclusion in the referenced antidumping duty order of a jumbo novelty pencil (approximately 1 foot long and 1 inch in diameter) that a company called Accoutrements is considering importing.” On September 8, 2003, the petitioner submitted a letter to the Department clarifying its August 11, 2003 submission. In its September 8, 2003, letter, the petitioner submitted the following proposed scope language with respect to the above-mentioned jumbo novelty pencil: “Also excluded from the scope of the order are pencils with all of the following physical characteristics: 1) length: 14 or more inches; 2) sheath diameter: not less than one-and-one quarter inches at any point (before sharpening); and 3) core length: not more than 15 percent of the length of the pencil.”

In response to the Department's invitation to comment on the preliminary results, on October 6, 2003, Accoutrements submitted a letter to the Department in which it requested that the Department change the proposed scope language from 14 or more inches to 13.5 or more inches, “in order to cover possible manufacturing variances from production run to production run.” On October 15, 2003, the petitioner submitted a letter to the Department in which it stated that it did not object to Accoutrement's requested change in the scope language.

New Scope Based on this Changed Circumstances Review

Imports covered by this order are shipments of certain cased pencils of any shape or dimension (except as noted below) which are writing and/or drawing instruments that feature cores of graphite or other materials, encased in wood and/or man-made materials, whether or not decorated and whether or not tipped (e.g., with erasers, etc.) in any fashion, and either sharpened or unsharpened. The pencils subject to the order are classified under subheading 9609.10.00 of the Harmonized Tariff Schedule of the United States (HTSUS). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion. Also excluded from the scope of the order are pencils with all of the following physical characteristics: 1) length: 13.5 or more inches; 2) sheath diameter: not less than one-and-one quarter inches at any point (before sharpening); and 3) core length: not more than 15 percent of the length of the pencil.

Although the HTSUS subheading is provided for convenience and customs purposes our written description of the scope of the order is dispositive.

Partial Revocation of Antidumping Duty Order

The petitioner has expressed no interest in continuing the AD order on pencils from the PRC with respect to pencils with all the following physical characteristics: 1) length: 13.5 or more inches; 2) sheath diameter: not less than one-and-one quarter inches at any point (before sharpening); and 3) core length: not more than 15 percent of the length of the pencil. The affirmative statement of no interest by the petitioner concerning pencils meeting the above specifications constitutes changed circumstances sufficient to warrant partial revocation of this order. Therefore, the Department is partially revoking the order on pencils from the PRC with regard to the pencils meeting the specifications described above, in accordance with sections 751(b), 751(d)(1), and 782(h)(2) of the Tariff Act of 1930, as amended (the Act), and 19 C.F.R. §351.222(g)(1). The Department has modified the scope of the AD order on pencils from the PRC to exclude the pencils described above.

In accordance with 19 C.F.R. §351.222(g)(4), the Department will order the suspension of liquidation ended for pencils meeting the specifications described above, effective on the date of publication of this notice. The Department will further instruct CBP to refund with interest any estimated antidumping duties collected with respect to unliquidated entries of pencils meeting the specifications described above entered, or withdrawn from warehouse, for consumption on or after December 1, 2001 (i.e., any entries after the last day of the period covering the last completed administrative review), in accordance with section 778 of the Act. In addition, the Department will instruct CBP to liquidate, without regard to antidumping duties, all unliquidated entries of pencils meeting the specifications described above entered, or withdrawn from warehouse, for consumption on or after December 1, 2001.

Administrative Protective Order

This notice serves as a reminder to parties subject to administrative protective order (APO) of their responsibility concerning the disposition of proprietary information disclosed under APO in accordance with 19 C.F.R. §351.306. Timely written notification of the return/destruction of APO materials or conversion to judicial protective order is hereby requested. Failure to comply with the regulations and terms of an APO is a sanctionable violation.

This changed circumstances review, partial revocation of the antidumping duty order and notice are in accordance with sections 751(b), 751(d)(1), and 782(h)(2) of the Act and 19 C.F.R. §351.216(e) and §351.222(g).

Dated: October 27, 2003.
James J. Jochum,
Assistant Secretary for Import Administration.

[FR Doc. 03-27690 Filed 11-3-03; 8:45 am]

BILLING CODE 3510-DS-S